DEPARTMENT OF COMMERCE

International Trade Administration

[A-570-929]

Small Diameter Graphite Electrodes From the People's Republic of China: Final Results of Antidumping Duty Administrative Review; 2011-2012

AGENCY: Import Administration, International Trade Administration, Department of Commerce.

SUMMARY: On March 8, 2013, the Department of Commerce (the Department) published the preliminary results of the administrative review of the antidumping duty order on small diameter graphite electrodes from the People's Republic of China (the PRC). The period of review (POR) is February 1, 2011, through January 31, 2012. For the final results, we continue to find that certain companies covered by this review have not made sales of subject merchandise at less than normal value, and that other companies are now part of the PRC-wide entity.

DATES: Effective Date: September 11, 2013.

FOR FURTHER INFORMATION CONTACT: Dmitry Vladimirov or Minoo Hatten, AD/CVD Operations, Office 1, Import Administration, International Trade Administration, U.S. Department of Commerce, 14th Street and Constitution Avenue NW., Washington, DC 20230; telephone: (202) 482-0665 or (202) 482-1690, respectively.

SUPPLEMENTARY INFORMATION:

Background

On March 8, 2013, the Department published the preliminary results of the administrative review of the antidumping duty order on small diameter graphite electrodes from the PRC.¹ We received case and rebuttal briefs with respect to the Preliminary Results.

¹ See Small Diameter Graphite Electrodes From the People's Republic of China: Preliminary Results of Antidumping Duty Administrative Review and Partial Rescission; 2011-2012, 78 FR 14964 (March 8, 2013) (Preliminary Results), and accompanying Preliminary Decision Memorandum.

We have conducted this administrative review in accordance with section 751 of the Tariff Act of 1930, as amended (the Act).

Scope of the Order

The merchandise covered by the order includes all small diameter graphite electrodes with a nominal or actual diameter of 400 millimeters (16 inches) or less and graphite pin joining systems for small diameter graphite electrodes. Small diameter graphite electrodes and graphite pin joining systems for small diameter graphite electrodes that are subject to the order are currently classified under the Harmonized Tariff Schedule of the United States (HTSUS) subheadings 8545.11.0010 and 3801.10. The HTSUS numbers are provided for convenience and customs purposes. A full description of the scope of the order is contained in the Issues and Decision Memorandum,² which is hereby adopted by this notice. The written description of the scope of the order is dispositive.

² See Memorandum to Paul Piquado, Assistant Secretary for Import Administration, From Christian Marsh, Deputy Assistant Secretary for Antidumping and Countervailing Duty Operations, entitled “Issues and Decision Memorandum for the Final Results of Antidumping Duty Administrative Review of Small Diameter Graphite Electrodes from the People's Republic of China” dated concurrently with this notice (Issues and Decision Memorandum).

Determination of No Shipments

UK Carbon and Graphite Co., Ltd. (UKCG) timely filed a “no shipment” certification stating that it had no entries of subject merchandise during the POR.³ We subsequently confirmed with U.S. Customs and Border Protection (CBP) the “no shipment” claim made by UKCG.⁴ Based on the certifications by UKCG and CBP's confirmation, we determine that UKCG did not have any reviewable entries of subject merchandise during the POR, and will issue appropriate instructions that are consistent with our “automatic assessment” clarification, for these final results.⁵

³ See Letter from UKCG, dated May 29, 2012.

⁴ See CBP inquiry message 3207305, dated July 26, 2013.

⁵ See Non-Market Economy Antidumping Proceedings: Assessment of Antidumping Duties, 76 FR 65694 (October 24, 2011).

Analysis of Comments Received

All issues raised in the case briefs by parties to this administrative review are addressed in the Issues and Decision Memorandum. A list of the issues raised is attached to this notice as Appendix 1. The Issues and Decision Memorandum is a public document and is on file electronically via Import Administration's Antidumping and Countervailing Duty Centralized Electronic Service System (IA ACCESS). Access to IA ACCESS is available to registered users at http://iaaccess.trade.gov and is available to all parties in the Central Records Unit, room 7046 of the main Department of Commerce building. In addition, a complete version of the Issues and Decision Memorandum can be accessed directly on the Import Administration Web site at http://ia.ita.doc.gov/frn/index.html. The signed Issues and Decision Memorandum and the electronic versions of the Issues and Decision Memorandum are identical in content.

Separate Rate for a Non-Selected Company

In the Preliminary Results, we found that Xinghe County Muzi Carbon Co., Ltd. (Muzi Carbon) demonstrated its eligibility for separate-rate status.⁶ We have not received any information since then that would lead us to reconsider our preliminary finding. Therefore, we continue to determine that Muzi Carbon is eligible for separate-rate status.

⁶ See Preliminary Results, and accompanying Preliminary Decision Memorandum at 6-7.

The PRC-Wide Entity

In the Preliminary Results, we determined that four companies ⁷ for which a review was requested did not demonstrate their eligibility for a separate rate and are properly considered part of the PRC-wide entity.⁸ We have not received any information since then that would lead us to reconsider our preliminary determination with respect to these four companies. Therefore, we continue to find that these four companies should be treated as part of the PRC-wide entity and subject to the PRC-wide entity rate.

⁷ These companies are Dechang Shida Carbon Co., Ltd., Shida Carbon Group, Sichuan Shida Trading Co., Ltd., and Sichuan Guanghan Shida Carbon Co., Ltd.

⁸ See Preliminary Results, and accompanying Preliminary Decision Memorandum at 8.

In the Preliminary Results, we stated our intent not to rescind the review for certain companies that remain a part of the PRC-wide entity, notwithstanding timely withdrawal of review requests for these companies, because the PRC-wide entity remains under review.⁹ Since the Preliminary Results, we did not receive any information that would cause us to revisit our preliminary determination not to rescind the review with respect to these companies.

⁹ See id., 78 FR at 14966.

Consistent with our practice, we will issue appropriate instructions to CBP for any entries made by the companies that remain a part of the PRC-wide entity during the POR.

Changes Since the Preliminary Results

Based on our analysis of the comments received, we have revised our calculation of the surrogate financial ratios used in the margin calculations for mandatory respondents, Fangda Group ¹⁰ and Fushun Jinly Petrochemical Carbon Co., Ltd. (Fushun Jinly).¹¹ This revision did not change the weighted-average margins we calculated in the Preliminary Results.

¹⁰ We refer to the Fangda Group as a single entity pursuant to 19 CFR 351.401(f)(1). See Small Diameter Graphite Electrodes From the People's Republic of China: Preliminary Determination of Sales at Less Than Fair Value, Postponement of Final Determination, and Affirmative Preliminary Determination of Critical Circumstances, in Part, 73 FR 49408, 49411-12 (August 21, 2008) (where we collapsed the following individual members of the Fangda Group: Beijing Fangda Carbon Tech Co., Ltd., Chengdu Rongguang Carbon Co., Ltd., Fangda Carbon New Material Co., Ltd., Fushun Carbon Co., Ltd., and Hefei Carbon Co., Ltd.), unchanged in Final Determination of Sales at Less Than Fair Value and Affirmative Determination of Critical Circumstances: Small Diameter Graphite Electrodes from the People's Republic of China, 74 FR 2049 (January 14, 2009).

¹¹ See accompanying Issues and Decision Memorandum at Comment 6.

Final Results of the Review

We determine that the following percentage weighted-average dumping margins exist for the period February 1, 2011, through January 31, 2012:

Company | Margin (percent)
Fushun Jinly Petrochemical Carbon Co., Ltd. | 0.00
Beijing Fangda Carbon Tech Co., Ltd. | 0.00
Chengdu Rongguang Carbon Co., Ltd. | 0.00
Fangda Carbon New Material Co., Ltd. | 0.00
Fushun Carbon Co., Ltd. | 0.00
Hefei Carbon Co., Ltd. | 0.00
Xinghe County Muzi Carbon Co., Ltd. | 0.00
PRC-wide entity * | 159.64
* The PRC-Wide entity includes the companies listed in Appendix 2.

Assessment

The Department will determine, and CBP shall assess, antidumping duties on all appropriate entries covered by this review pursuant to 19 CFR 351.212(b). We intend to issue assessment instructions to CBP 15 days after the date of publication of the final results of review.

For Fushun Jinly, Muzi Carbon, and the five companies comprising the Fangda Group we will instruct CBP to liquidate all entries during the POR without regard to antidumping duties because their weighted-average dumping margins in these final results are zero.¹²

¹² See Antidumping Proceeding: Calculation of the Weighted-Average Dumping Margin and Assessment Rate in Certain Antidumping Duty Proceedings; Final Modification, 77 FR 8103 (February 14, 2012).

Cash Deposit Requirements

The following cash deposit requirements will be effective upon publication of these final results of review for all shipments of the subject merchandise entered, or withdrawn from warehouse, for consumption on or after the publication date as provided by section 751(a)(2)(C) of the Act: (1) No cash deposit will be required for subject merchandise exported by Fushun Jinly, Muzi Carbon, and the five companies comprising the Fangda Group because they received a rate of 0.00 percent in the final results of this administrative review; (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements shall remain in effect until further notice.

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Disclosure

We intend to disclose the calculations performed within five days of the date of publication of this notice to parties in this proceeding, in accordance with 19 CFR 351.224(b).

These final results of review are issued and published in accordance with sections 751(a)(1) and 777(i) of the Act.

Dated: September 4, 2013.
Paul Piquado,
Assistant Secretary for Import Administration.

Appendix 1

List of Topics Discussed in the Issues and Decision Memorandum

Comment 1: U.S. Sales Attributable to Circumvention Determination

Comment 2: Tolling Data

Comment 3: Reconciliation of Factors of Production

Comment 4: Differential Pricing and Targeted Dumping Analyses

Comment 5: Rate for Non-Selected Companies

Comment 6: Surrogate Financial Ratios

Appendix 2

Firms for which we are not rescinding the review even though we received timely withdrawal requests because these companies are part of the PRC entity as they did not have a separate rate from a prior segment.

1. 5-Continent Imp. & Exp. Co., Ltd.

2. Acclcarbon Co., Ltd.

3. Allied Carbon (China) Co., Limited

4. Anssen Metallurgy Group Co., Ltd.

5. AMGL

6. Apex Maritime (Dalian) Co., Ltd.

7. Asahi Fine Carbon (Dalian) Co., Ltd.

8. Beijing Xinchengze Inc.

9. Beijing Xincheng Sci-Tech. Development Inc.

10. Chang Cheng Chang Electrode Co., Ltd.

11. Chengdelh Carbonaceous Elements Factory

12. Chengdu Jia Tang Corp.

13. China Industrial Mineral & Metals Group

14. China Shaanxi Richbond Imp. & Exp. Industrial Corp. Ltd.

15. China Xingyong Carbon Co., Ltd.

16. CIMM Group Co., Ltd.

17. Dalian Carbon & Graphite Corporation

18. Dalian Hongrui Carbon Co., Ltd.

19. Dalian Honest International Trade Co., Ltd.

20. Dalian Horton International Trading Co., Ltd.

21. Dalian LST Metallurgy Co., Ltd.

22. Dalian Shuangji Co., Ltd.

23. Datong Carbon

24. Datong Carbon Plant

25. Datong Xincheng Carbon Co., Ltd.

26. De Well Container Shipping Corp.

27. Dewell Group

28. Dignity Success Investment Trading Co., Ltd.

29. Double Dragon Metals and Mineral Tools Co., Ltd.

30. Fangda Lanzhou Carbon Joint Stock Company Co. Ltd.

31. Foset Co., Ltd.

32. Fushun Orient Carbon Co., Ltd.

33. Guangdong Highsun Yongye (Group) Co., Ltd.

34. Haimen Shuguang Carbon Industry Co., Ltd.

35. Handan Hanbo Material Co., Ltd.

36. Hebei Long Great Wall Electrode Co., Ltd.

37. Heilongjiang Xinyuan Metacarbon Company, Ltd.

38. Henan Sanli Carbon Products Co., Ltd.

39. Hopes (Beijing) International Co., Ltd.

40. Hunan Mec Machinery and Electronics Imp. & Exp. Corp.

41. Hunan Yinguang Carbon Factory Co., Ltd.

42. Inner Mongolia QingShan Special Graphite and Carbon Co., Ltd.

43. Inner Mongolia Xinghe County Hongyuan Electrical Carbon Factory

44. Jiang Long Carbon

45. Jiangsu Yafei Carbon Co., Ltd.

46. Jichun International Trade Co., Ltd. of Jilin Province

47. Jiexiu Juyuan Carbon Co., Ltd.

48. Jiexiu Ju-Yuan & Coaly Co., Ltd.

49. Jilin Carbon Graphite Material Co., Ltd.

50. Jilin Carbon Import and Export Company

51. Jilin Songjiang Carbon Co Ltd.

52. Jinneng Group Co., Ltd.

53. Jinyu Thermo-Electric Material Co., Ltd.

54. Kaifeng Carbon Company Ltd.

55. KASY Logistics (Tianjin) Co., Ltd.

56. Kimwan New Carbon Technology and Development Co., Ltd.

57. Kingstone Industrial Group Ltd.

58. L & T Group Co., Ltd.

59. Laishui Long Great Wall Electrode Co. Ltd.

60. Lanzhou Carbon Co., Ltd.

61. Lanzhou Carbon Import & Export Corp.

62. Lanzhou Hailong Technology

63. Lanzhou Ruixin Industrial Material Co., Ltd.

64. LH Carbon Factory of Chengde

65. Lianxing Carbon Qinghai Co., Ltd.

66. Lianxing Carbon Science Institute

67. Lianxing Carbon (Shandong) Co., Ltd.

68. Lianyungang Jinli Carbon Co., Ltd.

69. Liaoyang Carbon Co. Ltd.

70. Linyi County Lubei Carbon Co., Ltd.

71. Maoming Yongye (Group) Co., Ltd.

72. MBI Beijing International Trade Co., Ltd.

73. Nantong Yangtze Carbon Corp. Ltd.

74. Orient (Dalian) Carbon Resources Developing Co., Ltd.

75. Orient Star Transport International, Ltd.

76. Peixian Longxiang Foreign Trade Co. Ltd.

77. Qingdao Grand Graphite Products Co., Ltd.

78. Quingdao Haosheng Metals & Minerals Imp. & Exp. Co., Ltd.

79. Qingdao Liyikun Carbon Development Co., Ltd.

80. Qingdao Likun Graphite Co., Ltd.

81. Qingdao Ruizhen Carbon Co., Ltd.

82. Ray Group Ltd.

83. Rex International Forwarding Co., Ltd.

84. Rt Carbon Co., Ltd.

85. Ruitong Carbon Co., Ltd.

86. Shandong Basan Carbon Plant

87. Shandong Zibo Continent Carbon Factory

88. Shanghai Carbon International Trade Co., Ltd.

89. Shanghai P.W. International Ltd.

90. Shanghai Shen-Tech Graphite Material Co., Ltd.

91. Shanghai Topstate International Trading Co., Ltd.

92. Shanxi Datong Energy Development Co., Ltd.

93. Shanxi Foset Carbon Co. Ltd.

94. Shanxi Jiexiu Import and Export Co., Ltd.

95. Shanxi Jinneng Group Co., Ltd.

96. Shanxi Yunheng Graphite Electrode Co., Ltd.

97. Shijaizhuang Carbon Co., Ltd.

98. Sichuan 5-Continent Imp. & Exp. Co., Ltd.

99. Sichuan GMT International Inc.

100. Sinicway International Logistics Ltd.

101. Sinosteel Anhui Co., Ltd.

102. Sinosteel Jilin Carbon Imp. & Exp. Co., Ltd.

103. Sinosteel Sichuan Co., Ltd.

104. SMMC Group Co., Ltd.

105. Sure Mega (Hong Kong) Ltd.

106. Tangshan Kimwan Special Carbon & Graphite Co., Ltd.

107. Tengchong Carbon Co., Ltd.

108. Tianjin (Teda) Iron & Steel Trade Co., Ltd.

109. Tianjin Kimwan Carbon Technology and Development Co., Ltd.

110. Tianjin Yue Yang Industrial & Trading Co., Ltd.

111. Tielong (Chengdu) Carbon Co., Ltd.

112. United Carbon Ltd.

113. United Trade Resources, Inc.

114. Weifang Lianxing Carbon Co., Ltd.

115. World Trade Metals & Minerals Co., Ltd.

116. XC Carbon Group

117. Xinyuan Carbon Co., Ltd.

118. Xuanhua Hongli Refractory and Mineral Company

119. Xuchang Minmetals & Industry Co., Ltd.

120. Xuzhou Carbon Co., Ltd.

121. Xuzhou Electrode Factory

122. Yangzhou Qionghua Carbon Trading Ltd.

123. Yixing Huaxin Imp & Exp Co. Ltd.

124. Youth Industry Co., Ltd.

125. Zhengzhou Jinyu Thermo-Electric Material Co., Ltd.

126. Zibo Continent Carbon Factory

127. Zibo DuoCheng Trading Co., Ltd.

128. Zibo Lianxing Carbon Co., Ltd.

129. Zibo Wuzhou Tanshun Carbon Co., Ltd.

Companies that are now part of the PRC entity because they did not demonstrate in this review that they are entitled to a separate rate.

1. Dechang Shida Carbon Co., Ltd.

2. Shida Carbon Group

3. Sichuan Shida Trading Co., Ltd.

4. Sichuan Guanghan Shida Carbon Co., Ltd.¹³

¹³ This company is the same entity as Guanghan Shida Carbon Co., Ltd., for which this administrative review was initiated. See Small Diameter Graphite Electrodes from the People's Republic of China: Final Results of the Antidumping Duty Administrative Review, 77 FR 40854, 40856 (July 11, 2012).

[FR Doc. 2013-22028 Filed 9-10-13; 8:45 am]

BILLING CODE 3510-DS-P